DEPARTMENT OF JUSTICE

Notice of Lodging of Proposed Partial Consent Decree Under the Clean Water Act and the Pipeline Safety Laws

On July 31, 2023, the Department of Justice lodged a proposed partial consent decree with the United States District Court for the District of North Dakota in the lawsuit entitled United States of America and State of North Dakota v. Belle Fourche Pipeline Company, Civil Action No. 22-00089-DLH-CRH (the “North Dakota lawsuit”). The proposed partial consent decree would also resolve a lawsuit in the District of Montana entitled United States of America v. Bridger Pipeline LLC, Civil Action No. 22-00043-BLG-SPW (the “Montana lawsuit”).

The North Dakota lawsuit seeks injunctive relief and civil penalties for violations of the Clean Water Act, the Pipeline Safety Laws, and North Dakota state law arising from the failure of Belle Fourche Pipeline Company's Bicentennial Pipeline approximately 17.4 pipeline miles west of the Skunk Hill station, in Billings County, North Dakota, on or about December 1, 2016, resulting in the discharge of oil into an unnamed tributary to Ash Coulee Creek (the “Ash Coulee spill”). The Montana lawsuit seeks injunctive relief and civil penalties for violations of the Clean Water Act and the Pipeline Safety Laws arising from the failure of Bridger Pipeline LLC's Poplar Pipeline where it crosses under the Yellowstone River approximately six river miles upstream from Glendive, Montana, on or about January 17, 2015, resulting in the discharge of oil into the Yellowstone River (the “Yellowstone spill”).

The proposed consent decree requires Defendants to perform injunctive relief and pay a $12,500,000 civil penalty. Entering into and fully complying with the proposed partial consent decree would resolve Defendants' and certain affiliates' past civil liability under the Clean Water Act and Pipeline Safety Laws arising from the Ash Coulee and Yellowstone spills. The proposed partial consent decree would also resolve Defendants' and certain affiliates' past civil liability for violations that could be brought under specific provisions of the Pipeline Safety Laws relating to pipeline control room management. The proposed partial consent decree would not resolve the United States' claim for injunctive relief under the Clean Water Act for remediation of the Ash Coulee spill.

The publication of this notice opens a period for public comment on the partial consent decree. Comments should be addressed to the Assistant Attorney General, Environment and Natural Resources Division, and should refer to United States and State of North Dakota v. Belle Fourche Pipeline Company, D.J. Ref. No. 90-5-1-1-11262/2 and United States v. Bridger Pipeline LLC, D.J. Ref. No. 90-5-1-1-11262. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

In the case of the Ash Coulee spill, the partial consent decree includes a covenant not to sue by the United States under Section 7003 of the Resource Conservation and Recovery Act (“RCRA”), 42 U.S.C. 6973. Under section 7003(d) of RCRA, a commenter may request an opportunity for a public meeting in the affected area.

During the public comment period, the partial consent decree may be examined and downloaded at this Justice Department website: http://www.justice.gov/enrd/consent-decrees. We will provide a paper copy of the partial consent decree upon written request and payment of reproduction costs. Please mail your request and payment to: Consent Decree Library, U.S. DOJ—ENRD, P.O. Box 7611, Washington, DC 20044-7611.

Please enclose a check or money order for $14.00 (25 cents per page reproduction cost) payable to the United States Treasury.

Henry S. Friedman,
Assistant Section Chief, Environmental Enforcement Section, Environment and Natural Resources Division.

[FR Doc. 2023-16574 Filed 8-2-23; 8:45 am]

BILLING CODE 4410-15-P